DEPARTMENT OF COMMERCE

National Oceanic and Atmospheric Administration

RIN 0648-XA147

Endangered Species Permit No. 1578-01 and Permit No. 1595-04

AGENCY: National Marine Fisheries Service (NMFS), National Oceanic and Atmospheric Administration (NOAA), Commerce.

ACTION: Notice; issuance of permit amendments.

SUMMARY: Notice is hereby given the following applicants have been issued a modification to research permits (Permit Nos. 1578 and 1595-03) to take shortnose sturgeon for purposes of scientific research:

Maine Department of Marine Resources (MDMR) (Gail S. Wippelhauser, Principal Investigator), 21 State House Station, Augusta, ME, 04333 (Permit No. 1578); and

Michael M. Hastings, University of Maine, 5717 Corbett Hall, Orono, ME 04469, (Permit No. 1595-03).

ADDRESSES: The permit amendments and related documents are available for review upon written request or by appointment in the following offices(s):

• Permits, Conservation and Education Division, Office of Protected Resources, NMFS, 1315 East-West Highway, Room 13705, Silver Spring, MD 20910; phone (301) 713-2289; fax (301) 713-0376; and

• Northeast Region, NMFS, Protected Resources Division, 55 Great Republic Drive, Gloucester, MA 01930; phone (978) 281-9328; fax (978) 281-9394.

FOR FURTHER INFORMATION CONTACT: Malcolm Mohead or Colette Cairns, (301) 713-2289.

SUPPLEMENTARY INFORMATION: On September 24, 2010, notice was published in the Federal Register (75 FR 58350) that a request for an amendment to Permit No. 1578 and Permit No. 1595-03 to conduct research on shortnose sturgeon had been submitted by the above-named organizations. The requested permit modifications have been issued under the authority of the Endangered Species Act of 1973, as amended (ESA; 16 U.S.C. 1531 et seq.) and the regulations governing the taking, importing, and exporting of endangered and threatened species (50 CFR parts 222-226).

Permit Modification No. 1578-01

The existing permit authorized sampling of 500 shortnose sturgeon adults and sub-adults annually in the main stem of the Kennebec River between Augusta, ME and Lockwood Dam focusing on the location of spawning and foraging habitat, migratory pathways, and effects of river flow on migration and habitat use. The researcher is now authorized to document the use of other river systems by shortnose sturgeon in the Gulf of Maine (GOM) capturing up to 600 from (1) The Kennebec River mouth to Lockwood Dam; (2) the Androscoggin River mouth to Brunswick Dam; (3) the Sheepscot River mouth to Reversing Falls; (4) the Sasanoa River, the Back River, and Sagadahoc Bay; (5) Tottman Cove; and (6) the lower Saco River. New research methods include: use of Floy tags for external identification; endoscopic examination with borescopes to verify sex; blood sampling; gastric lavage for diet analysis; scute sampling for elemental analysis; and electro-narcosis for anesthetization. Researchers are also authorized an increase in the number of fish acoustically tagged (up to 60 annually); and an increase of early life stage sampling (up to 60 annually) in the Kennebec complex and Saco River.

Permit Modification No. 1595-03

The objectives of the original research remains the same as the modification, assessing the distribution, movements, abundance and spawning of shortnose sturgeon in the Penobscot River system; however, the number of shortnose sturgeon captured with gill and trammel nets is increased from 200 to 300 annually. Other new research activities include: (1) Lowering the minimum water temperature to 0°C in order to sample shortnose sturgeon adults and sub-adults; (2) using Floy tags for externally identifying; (3) using electro-narcosis for anesthetization; (4) using scute sampling for elemental analysis; (5) using gastric lavage for diet analysis; and (6) including September to December to sample early life stages.

As required by the ESA, issuance of this permit was based on a finding that such permit: (1) Was applied for in good faith; (2) will not operate to the disadvantage of such endangered species; and (3) is consistent with the purposes and policies set forth in section 2 of the ESA.

Dated: January 12, 2011.
P. Michael Payne,
Chief, Permits, Conservation and Education Division, Office of Protected Resources, National Marine Fisheries Service.

[FR Doc. 2011-1039 Filed 1-18-11; 8:45 am]

BILLING CODE 3510-22-P